DEPARTMENT OF HOMELAND SECURITY

Federal Emergency Management Agency

44 CFR Part 67

[Docket ID FEMA-2010-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in flood prone areas in accordance with 44 CFR part 60.

Interested lessees and owners of real property are encouraged to review the proof Flood Insurance Study and FIRM available at the address cited below for each community.

The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Drew County, Arkansas, and Incorporated Areas
Docket No.: FEMA-B-1083
Tenmile Creek | Approximately 1,000 feet downstream of Missouri Pacific Railroad | +208 | Unincorporated Areas of Drew County.
| Just downstream of Missouri Pacific Railroad | +212
Tenmile Tributary | Approximately 3,200 feet downstream of Ragland Avenue | +222 | City of Monticello, Unincorporated Areas of Drew County.
| Just downstream of Barkada Road | +236
* National Geodetic Vertical Datum.
+ North American Vertical Datum.
# Depth in feet above ground.
‸ Mean Sea Level, rounded to the nearest 0.1 meter.
ADDRESSES
City of Monticello
Maps are available for inspection at 204 West Gains Street, Monticello, AR 71655.
Unincorporated Areas of Drew County
Maps are available for inspection at 210 South Main Street, Monticello, AR 71655.
St. Joseph County, Indiana, and Incorporated Areas
Docket No.: FEMA-B-1020
Baugo Creek | Approximately 300 feet upstream of the confluence with St. Joseph River/Baugo Bay | +719 | Town of Osceola, Unincorporated Areas of St. Joseph County.
| Approximately 100 feet upstream of the Elkhart County boundary | +726
Judy Creek | Approximately 1,950 feet upstream of Kenilwood Road | +711 | Town of Roseland.
| Approximately 1,825 feet downstream of Indiana East-West Toll Road | +712
Kieffer Creek | Approximately 550 feet upstream of the confluence with the St. Joseph River | +690 | City of South Bend, Unincorporated Areas of St. Joseph County.
| Approximately 1,850 feet upstream of Hollyhock Road | +722
Potato Creek | Approximately 280 feet downstream of Cemetery Road | +709 | Town of North Liberty.
| Approximately 980 feet upstream of Cemetery Road | +712
* National Geodetic Vertical Datum.
+ North American Vertical Datum.
# Depth in feet above ground.
‸ Mean Sea Level, rounded to the nearest 0.1 meter.
ADDRESSES
City of South Bend
Maps are available for inspection at 227 West Jefferson Boulevard, Suite 400, South Bend, IN 46601.
Town of North Liberty
Maps are available for inspection at 300 South Main Street, North Liberty, IN 46554.
Town of Osceola
Maps are available for inspection at 850 Lincoln Way West, Osceola, IN 46561.
Town of Roseland
Maps are available for inspection at 200 Independence Drive, Roseland, IN 46637.
Unincorporated Areas of St. Joseph County
Maps are available for inspection at 227 West Jefferson Boulevard, Room 732, South Bend, IN 46601.
Cass County, Iowa, and Incorporated Areas
Docket No.: FEMA-B-1068
Baughmans Creek | Just upstream of 540th Street | +1,091 | Unincorporated Areas of Cass County.
| Approximately 900 feet downstream of Adair Street | +1,098
| Approximately 400 feet downstream of Main Street | +1,103
| Approximately 650 feet upstream of Main Street | +1,106
East Nishnabotna River | Just upstream of Jasper Road | +1,136 | Unincorporated Areas of Cass County.
| Just downstream of the confluence with Troublesome Creek | +1,154
Troublesome Creek | Just upstream of the confluence with the East Nishnabotna River | +1,154 | Unincorporated Areas of Cass County.
| Just upstream of Olive Street | +1,154
| Approximately 0.4 mile upstream of 635th Street | +1,163
| Approximately 0.5 mile upstream of 635th Street | +1,163
* National Geodetic Vertical Datum.
+ North American Vertical Datum.
# Depth in feet above ground.
‸ Mean Sea Level, rounded to the nearest 0.1 meter.
ADDRESSES
Unincorporated Areas of Cass County
Maps are available for inspection at 5 West 7th Street, Atlantic, IA 50022.
Montgomery County, Kentucky, and Incorporated Areas
Docket No.: FEMA-B-1061
Hinkston Creek | Approximately 500 feet upstream of Hinkston Pike (KY-1991) | +911 | City of Mt. Sterling, Unincorporated Areas of Montgomery County.
| Approximately 100 feet downstream of Calk Lane | +962
* National Geodetic Vertical Datum.
+ North American Vertical Datum.
# Depth in feet above ground.
‸ Mean Sea Level, rounded to the nearest 0.1 meter.
ADDRESSES
City of Mt. Sterling
Maps are available for inspection at 33 North Maysville Street, Mount Sterling, KY 40353.
Unincorporated Areas of Montgomery County
Maps are available for inspection at 1 Court Street, Mount Sterling, KY 40353.
Cedar County, Missouri, and Incorporated Areas
Docket No.: FEMA-B-1078
Stockton Lake | Entire shoreline within community | +887 | City of Stockton, Unincorporated Areas of Cedar County.
* National Geodetic Vertical Datum.
+ North American Vertical Datum.
# Depth in feet above ground.
‸ Mean Sea Level, rounded to the nearest 0.1 meter.
ADDRESSES
City of Stockton
Maps are available for inspection at 201 South High Street, Stockton, MO 65785.
Unincorporated Areas of Cedar County
Maps are available for inspection at 113 South Street, Stockton, MO 65785.
Henry County, Missouri, and Incorporated Areas
Docket No.: FEMA-B-1075
Harry S. Truman Reservoir | Entire shoreline within community | +741 | City of Calhoun, City of Deepwater, City of Urich, Unincorporated Areas of Henry County, Village of Brownington, Village of La Due.
Montrose Reservoir | Entire shoreline within community | +755 | Unincorporated Areas of Henry County.
* National Geodetic Vertical Datum.
+ North American Vertical Datum.
# Depth in feet above ground.
‸ Mean Sea Level, rounded to the nearest 0.1 meter.
ADDRESSES
City of Calhoun
Maps are available for inspection at 201 East Main Street, Calhoun, MO 65323.
City of Deepwater
Maps are available for inspection at 259 Southwest State Highway 52, Deepwater, MO 64740.
City of Urich
Maps are available for inspection at 308 North Main Street, Urich, MO 64788.
Unincorporated Areas of Henry County
Maps are available for inspection at 100 West Franklin Street, Clinton, MO 64735.
Village of Brownington
Maps are available for inspection at 858 Southwest Missouri Route BB, Deepwater, MO 64740.
Village of La Due
Maps are available for inspection at 100 West Franklin Street, Clinton, MO 64735.
Grant County, New Mexico, and Incorporated Areas
Docket No.: FEMA-B-1064
Cotton Wood Creek | Approximately 400 feet upstream of the confluence with Silva Creek | +5,942 | Unincorporated Areas of Grant County.
| Just downstream of Little Walnut Road | +5,987
Maude's Creek | Approximately 1.0 mile downstream of Rosedale Road | +5,698 | Unincorporated Areas of Grant County.
| Approximately 1.1 miles upstream of the confluence with Central Arroyo | +6,122
Pinos Altos Creek | Approximately 0.4 mile upstream of North Fowler Avenue | +6,116 | Unincorporated Areas of Grant County.
| Approximately 0.5 mile upstream of North Fowler Avenue | +6,130
San Vicente Arroyo | Approximately 1,000 feet downstream of Broken Arrow Drive | +5,623 | Unincorporated Areas of Grant County.
| Approximately 700 feet upstream of the confluence with Tributary No. 4 (San Vicente Arroyo) | +5,762
Silva Creek | Approximately 400 feet upstream of the confluence with Silva Creek | +5,942 | Unincorporated Areas of Grant County.
| Approximately 300 feet upstream of Jade Drive | +5,993
Tributary No. 1 (Maude's Creek) | At the confluence with Maude's Creek | +5,858 | Unincorporated Areas of Grant County.
| Approximately 1,300 feet downstream of Silver Heights Boulevard | +6,006
Tributary No. 2 (Maude's Creek) | Approximately 800 feet upstream of Yellow Arrow Lane | +5,853 | Unincorporated Areas of Grant County.
| Approximately 1,900 feet upstream of Yellow Arrow Lane | +5,868
* National Geodetic Vertical Datum.
+ North American Vertical Datum.
# Depth in feet above ground.
‸ Mean Sea Level, rounded to the nearest 0.1 meter.
ADDRESSES
Unincorporated Areas of Grant County
Maps are available for inspection at 1400 U.S. Route 180 East, Silver City, NM 88061.
Noble County, Ohio, and Incorporated Areas
Docket No.: FEMA-B-1078
Salt Run | Approximately 460 feet downstream of State Route 78 in the Village of Caldwell | +726 | Unincorporated Areas of Noble County, Village of Caldwell.
| Approximately 280 feet upstream of State Route 564 | +738
West Fork Duck Creek | Approximately 0.41 mile upstream of Township Highway 330 | +734 | Unincorporated Areas of Noble County, Village of Belle Valley.
| Approximately 0.6 mile upstream of Main Street in the Village of Belle Valley | +746
* National Geodetic Vertical Datum.
+ North American Vertical Datum.
# Depth in feet above ground.
‸ Mean Sea Level, rounded to the nearest 0.1 meter.
ADDRESSES
Village of Belle Valley
Maps are available for inspection at the Noble County Auditor's Office, 200 Courthouse Square, Caldwell, OH 43724.
Village of Caldwell
Maps are available for inspection at the Noble County Auditor's Office, 200 Courthouse Square, Caldwell, OH 43724.
Unincorporated Areas of Noble County
Maps are available for inspection at the Noble County Auditor's Office, 200 Courthouse Square, Caldwell, OH 43724.
Custer County, Oklahoma, and Incorporated Areas
Docket No.: FEMA-B-1064
Tributary 1 (Unnamed Stream) | Approximately 600 feet upstream of the confluence with Tributary 2 | +1,491 | Unincorporated Areas of Custer County.
| Approximately 200 feet downstream of Terrace Drive | +1,527
Tributary 2 (Unnamed Stream) | Approximately 500 feet upstream of the confluence with Tributary 1 | +1,499 | Unincorporated Areas of Custer County.
| Just upstream of South 13th Street | +1,537
Washita River | Approximately 0.61 mile downstream of I-40 | +1,484 | Unincorporated Areas of Custer County.
| Approximately 1.04 mile upstream of U.S. Route 183 | +1,495
* National Geodetic Vertical Datum.
+ North American Vertical Datum.
# Depth in feet above ground.
‸ Mean Sea Level, rounded to the nearest 0.1 meter.
ADDRESSES
Unincorporated Areas of Custer County
Maps are available for inspection at the Custer County Courthouse, 675 B Street, Arapaho, OK 73620.
Okmulgee County, Oklahoma, and Incorporated Areas
Docket No.: FEMA-B-1025
Duck Creek | Approximately 3,950 feet downstream of South Yale Avenue | +622 | Town of Liberty, Unincorporated Areas of Okmulgee County.
| Approximately 1,377 feet upstream of Lewis Avenue | +642
* National Geodetic Vertical Datum.
+ North American Vertical Datum.
# Depth in feet above ground.
‸ Mean Sea Level, rounded to the nearest 0.1 meter.
ADDRESSES
Town of Liberty
Maps are available for inspection at 719 East 8th Street, Okmulgee, OK 74447.
Unincorporated Areas of Okmulgee County
Maps are available for inspection at 719 East 8th Street, Okmulgee, OK 74447.
Spartanburg County, South Carolina, and Incorporated Areas | Docket Nos.: FEMA-B-7714 and FEMA-B-1049
Abners Creek | At the confluence with the Enoree River | +704 | City of Greer, Unincorporated Areas of Spartanburg County.
| Approximately 150 feet upstream of Freeman Farm Road | +870
Alexander Creek | At the confluence with the South Pacolet River (William C. Bowen Lake) | +825 | Unincorporated Areas of Spartanburg County.
| Approximately 2,010 feet upstream of Page Road | +844
Alexander Creek Tributary 1 | At the confluence with Alexander Creek | +838 | Unincorporated Areas of Spartanburg County.
| Approximately 1,620 feet upstream of Walnut Hill Church Road | +855
Beaverdam Creek East | Just upstream of Old Canaan Road | +619 | Unincorporated Areas of Spartanburg County.
| Approximately 300 feet upstream of Church Street | +677
Beaverdam Creek East Tributary 1 | At the confluence with Beaverdam Creek East | +637 | Unincorporated Areas of Spartanburg County.
| Approximately 400 feet upstream of Church Street | +676
Beaverdam Creek West | At the confluence with the Middle Tyger River | +817 | Unincorporated Areas of Spartanburg County.
| Approximately 2 miles upstream of State Highway 357 | +834
Big Ferguson Creek | Approximately 820 feet upstream of the confluence with Ferguson Creek | +576 | Unincorporated Areas of Spartanburg County.
| Approximately 5,190 feet upstream of Wofford Road | +662
Browns Branch | At the confluence with the Pacolet River | +481 | Unincorporated Areas of Spartanburg County.
| Approximately 960 feet upstream of Short Drive | +496
Buck Creek | At the confluence with the Pacolet River | +709 | Unincorporated Areas of Spartanburg County.
| Approximately 4,950 feet upstream of Cherokee Foothills Scenic Highway | +808
Buffalo Creek | Approximately 100 feet upstream of the confluence with Fairforest Creek | +574 | Unincorporated Areas of Spartanburg County.
| Approximately 1.2 miles upstream of Steward Road | +618
Casey Creek | At the confluence with the Pacolet River | +709 | Unincorporated Areas of Spartanburg County.
| Approximately 2,290 feet upstream of Overcreek Road | +824
Cedar Shoals Creek | Approximately 620 feet downstream of Horseshoe Falls Road | +406 | Unincorporated Areas of Spartanburg County.
| Approximately 1.5 miles upstream of Browning Road | +539
Cherokee Creek | Approximately 70 feet downstream of Cherokee Circle | +713 | Unincorporated Areas of Spartanburg County.
| Approximately 1,040 feet upstream of Cherokee Circle | +713
Chinquepin Creek | Approximately 100 feet upstream of Chesnee Highway | +719 | Unincorporated Areas of Spartanburg County.
| Approximately 920 feet upstream of Chesnee Highway | +726
Dildine Creek | At the confluence with the Enoree River | +560 | Unincorporated Areas of Spartanburg County.
| Approximately 4,580 feet upstream of the confluence with the Enoree River | +563
Dillard Creek | At the confluence with the Enoree River | +708 | Unincorporated Areas of Spartanburg County.
| Approximately 4,540 feet upstream of the confluence with the Enoree River | +715
Dutchman Creek | Approximately 1 mile downstream of Tucker Road | +481 | Unincorporated Areas of Spartanburg County.
| Approximately 2,370 feet upstream of Walnut Grove Pauline Road | +645
Enoree River | Approximately 4.3 miles downstream of I-26 | +401 | Unincorporated Areas of Spartanburg County.
| Approximately 125 feet upstream of State Highway 14 | +748
Enoree River Tributary 1 | At the confluence with the Enoree River | +698 | Unincorporated Areas of Spartanburg County.
| Approximately 1,690 feet upstream of Sharon Church Road | +790
Fairforest Creek | Approximately 80 feet downstream of Glen Springs Road | +491 | City of Spartanburg, Unincorporated Areas of Spartanburg County.
| Approximately 100 feet downstream of I-85 | +844
Fairforest Creek Tributary 1 | At the confluence with Fairforest Creek | +497 | Unincorporated Areas of Spartanburg County.
| Approximately 1.3 miles upstream of the confluence with Fairforest Creek | +525
Fairforest Creek Tributary 2 | Approximately 50 feet upstream of Fairforest Creek | +574 | Unincorporated Areas of Spartanburg County.
| Approximately 1,320 feet upstream of West Road | +656
Fairforest Creek Tributary 3 | Approximately 300 feet upstream of the confluence with Fairforest Creek | +614 | Unincorporated Areas of Spartanburg County.
| Approximately 3,630 feet upstream of the confluence with Fairforest Creek | +631
Fawn Branch | Just upstream of Old Furnace Road | +807 | Unincorporated Areas of Spartanburg County.
| Approximately 870 feet upstream of Old Furnace Road | +810
Fawn Branch Tributary 1 | Just upstream of Old Furnace Road | +807 | Unincorporated Areas of Spartanburg County.
| Approximately 2,640 feet upstream of Clark Road | +883
Fawn Branch Tributary 2 | At the confluence with Fawn Branch Tributary 1 | +826 | Unincorporated Areas of Spartanburg County.
| Approximately 440 feet upstream of State Highway 9 | +873
Ferguson Creek | Approximately 190 feet downstream of Old Spartanburg Highway | +627 | Unincorporated Areas of Spartanburg County.
| Approximately 1,990 feet upstream of Old Spartanburg Highway | +638
Fleming Branch | At the confluence with Fairforest Creek | +566 | Unincorporated Areas of Spartanburg County.
| Approximately 2,200 feet upstream of the confluence with Fairforest Creek | +576
Foster Creek | Approximately 330 feet upstream of Twin Oaks Road | +607 | Unincorporated Areas of Spartanburg County.
| Approximately 1.4 miles upstream of Old Canaan Road | +659
Foster Creek Tributary 1 | At the confluence with Foster Creek | +636 | Unincorporated Areas of Spartanburg County.
| Approximately 4,000 feet upstream of the confluence with Foster Creek | +748
Fourmile Branch | Just upstream of Country Club Road | +632 | Unincorporated Areas of Spartanburg County.
| Approximately 2,810 feet upstream of Pine Street | +734
Halfway Branch | Approximately 600 feet upstream of the confluence with Halfway Branch Tributary 1 | +680 | City of Spartanburg.
| Approximately 2,150 feet upstream of the confluence with Halfway Branch Tributary 1 | +708
Halfway Branch Tributary 1 | Just downstream of Blackwood Drive | +686 | City of Spartanburg, Unincorporated Areas of Spartanburg County.
| Approximately 700 feet upstream of Perrin Drive | +722
Island Creek | At the confluence with the Pacolet River | +655 | Unincorporated Areas of Spartanburg County.
| Approximately 2,000 feet upstream of Cemetery Road | +804
Jamison Mill Creek | At the confluence with the South Pacolet River | +878 | Unincorporated Areas of Spartanburg County.
| Approximately 1.4 miles upstream of Spivey Creek Road | +920
Jimmies Creek (North) | Just upstream of Freys Drive | +665 | City of Wellford, Unincorporated Areas of Spartanburg County.
| Approximately 2,190 feet upstream of Tucapau Road | +789
Jimmies Creek (South) | At the confluence with the North Tyger River | +440 | Town of Woodruff, Unincorporated Areas of Spartanburg County.
| Approximately 1,550 feet upstream of Georgia Road | +696
Jimmies Creek (South) Tributary 1 | At the confluence with Jimmies Creek (South) | +444 | Unincorporated Areas of Spartanburg County.
| Approximately 5,070 feet upstream of the confluence with Jimmies Creek (South) | +470
Kelsey Creek | At the confluence with Fairforest Creek | +524 | Unincorporated Areas of Spartanburg County.
| Approximately 4,900 feet upstream of the confluence with Thompson Creek | +555
Lawsons Fork Creek | Just upstream of Meadow Farm Road | +802 | Unincorporated Areas of Spartanburg County.
| Approximately 2,320 feet upstream of Park Street | +937
Lawsons Fork Creek Tributary 1 | Approximately 850 feet upstream of the confluence with Lawsons Fork Creek | +656 | City of Spartanburg.
| Approximately 3,890 feet upstream of Woodburn Road | +701
Lawsons Fork Creek Tributary 3 | Approximately 900 feet upstream of Lawsons Fork Creek | +779 | Unincorporated Areas of Spartanburg County.
| Approximately 2,120 feet upstream of Honeysuckle Road | +828
Lawsons Fork Creek Tributary 4 | Just upstream of River Forest Rd | +787 | Unincorporated Areas of Spartanburg County.
| Approximately 400 feet upstream of Lyman Road | +864
Lick Creek | At the confluence with the Enoree River | +567 | Unincorporated Areas of Spartanburg County.
| Approximately 425 feet upstream of Allen Bridge Road | +581
Little Buck Creek | At the confluence with Buck Creek | +712 | City of Chesnee, Unincorporated Areas of Spartanburg County.
| Approximately 280 feet upstream of Cherokee Street | +841
Little Buck Creek Tributary 1 | At the confluence with Little Buck Creek | +815 | City of Chesnee.
| Approximately 1,100 feet upstream of the confluence with Little Buck Creek | +851
Maple Creek | Just upstream of New Woodruff Road | +854 | City of Greer, Unincorporated Areas of Spartanburg County.
| Approximately 85 feet downstream of Acron Drive | +866
McElwain Creek | Approximately 3,266 feet downstream of Yard Road | +495 | Unincorporated Areas of Spartanburg County.
| Approximately 230 feet upstream of Yard Road | +499
Meadow Creek | Approximately 500 feet upstream of the confluence with Lawsons Fork Creek | +803 | Unincorporated Areas of Spartanburg County.
| Approximately 1,360 feet upstream of I-26 | +849
Meadow Creek Tributary 1 | At the confluence with Meadow Creek | +823 | Unincorporated Areas of Spartanburg County.
| Approximately 3,380 feet upstream of Spring Valley Road | +837
Middle Tyger River | Just upstream of Spartex Dam | +733 | Town of Duncan, Town of Lyman, Unincorporated Areas of Spartanburg County.
| Approximately 250 feet upstream of Sloan Road | +859
Middle Tyger River Tributary 1 | Approximately 1,800 feet upstream of the confluence with the Middle Tyger River | +616 | Unincorporated Areas of Spartanburg County.
| Approximately 5,040 feet upstream of the confluence with the Middle Tyger River | +629
Motlow Creek | At the confluence with the South Pacolet River | +826 | Town of Campobello, Unincorporated Areas of Spartanburg County.
| Approximately 740 feet upstream of Macedonia Church Road | +943
North Pacolet River | At the confluence with the Pacolet River | +723 | Unincorporated Areas of Spartanburg County.
| Approximately 4,030 feet upstream of Landrum Road | +837
North Tyger River | Approximately 3,340 feet downstream of State Highway 56 | +421 | Unincorporated Areas of Spartanburg County.
| Approximately 2.2 miles upstream of I-26 | +583
North Tyger River Tributary 1 | Just downstream of I-26 | +594 | Unincorporated Areas of Spartanburg County.
| Approximately 1.4 miles upstream of Stillhouse Road | +672
North Tyger River Tributary 2 | Approximately 1,780 feet upstream of the confluence with the North Tyger River | +666 | Unincorporated Areas of Spartanburg County.
| Approximately 260 feet upstream of U.S. Route 29 | +748
North Tyger River Tributary 3 | Approximately 900 feet upstream of confluence with the North Tyger River | +736 | Town of Lyman, Unincorporated Areas of Spartanburg County.
| Approximately 1.6 miles upstream of Holly Springs Road | +898
Obed Creek | At the confluence with the North Pacolet River | +737 | Unincorporated Areas of Spartanburg County.
| Approximately 4,100 feet upstream of Burnt Chimney Road | +879
Pacolet River | Approximately 2.4 miles downstream of Chapel Drive | +476 | Town of Pacolet, Unincorporated Areas of Spartanburg County.
| At the confluence with the North Pacolet River and the South Pacolet River | +723
Pacolet River Tributary 1 | At the confluence with the Pacolet River | +632 | Town of Cowpens, Unincorporated Areas of Spartanburg County.
| Approximately 290 feet upstream of Church Street | +765
Pacolet River Tributary 2 | At the confluence with the Pacolet River | +716 | Unincorporated Areas of Spartanburg County.
| Approximately 5,140 feet upstream of Fairfield Road | +875
Peters Creek | At the confluence with the Pacolet River | +630 | Unincorporated Areas of Spartanburg County.
| Approximately 210 feet downstream of Jones Road | +796
Ransom Creek | Approximately 1,120 feet upstream of the confluence with the North Tyger River | +611 | Unincorporated Areas of Spartanburg County.
| Approximately 1,050 feet upstream of Schirra Court | +732
Ransom Creek Tributary 1 | At the confluence with Ransom Creek | +614 | Unincorporated Areas of Spartanburg County.
| Approximately 460 feet upstream of I-26 | +640
Reedy Creek | Approximately 100 feet downstream of Old Canaan Road | +624 | Unincorporated Areas of Spartanburg County.
| Approximately 230 feet upstream of McAbee Road | +667
Richland Creek | At the confluence with the South Pacolet River | +785 | Unincorporated Areas of Spartanburg County.
| Approximately 1.3 miles upstream of Hickory Nut Drive | +832
Richland Creek East | At the confluence with the Pacolet River | +539 | Unincorporated Areas of Spartanburg County.
| Approximately 4,970 feet upstream of the confluence with the Pacolet River | +540
Richland Creek Tributary 1 | At the confluence with Richland Creek | +785 | Unincorporated Areas of Spartanburg County.
| Approximately 2,740 feet upstream of River Oak Road | +825
Richland Creek Tributary 2 | At the confluence with Richland Creek Tributary 1 | +792 | Unincorporated Areas of Spartanburg County.
| Approximately 3,860 feet upstream of the confluence with Richland Creek Tributary 1 | +810
Richland Creek Tributary 3 | At the confluence with Richland Creek | +785 | Unincorporated Areas of Spartanburg County.
| Approximately 570 feet upstream of Owens Dive | +855
Shoally Creek | Approximately 60 feet downstream of the confluence with Shoally Creek Tributary 2 | +804 | Unincorporated Areas of Spartanburg County.
| Approximately 4,580 feet upstream of Old Furnace Road | +915
Shoally Creek Tributary 1 | Approximately 300 feet upstream of the confluence with Shoally Creek | +752 | Unincorporated Areas of Spartanburg County.
| Approximately 250 feet upstream of Sandifer Road | +796
Shoally Creek Tributary 2 | Just upstream of the confluence with Shoally Creek | +804 | Unincorporated Areas of Spartanburg County.
| Approximately 1,730 feet upstream of Burnett Road | +875
Shoally Creek Tributary 3 | At the confluence with Shoally Creek | +804 | Unincorporated Areas of Spartanburg County.
| Approximately 150 feet upstream of McMillin Boulevard | +850
South Pacolet River Tributary 2 | At the confluence with South Pacolet River Tributary 1 | +832 | Unincorporated Areas of Spartanburg County.
| Approximately 2,410 feet upstream of the confluence with South Pacolet River Tributary 1 | +861
South Pacolet River | At the confluence with the Pacolet River | +723 | Town of Campobello, Unincorporated Areas of Spartanburg County.
| At the confluence with Jamison Mill Creek | +878
South Pacolet River Tributary 1 | At the confluence with the South Pacolet River | +825 | Unincorporated Areas of Spartanburg County.
| Approximately 4,230 feet upstream of Old Mill Road | +844
South Tyger River | At the confluence with the North Tyger River | +518 | City of Greer, Town of Duncan, Unincorporated Areas of Spartanburg County.
| Approximately 1.9 miles upstream of Wade Hampton Boulevard | +771
South Tyger River Tributary 1 | At the confluence with the South Tyger River | +604 | Unincorporated Areas of Spartanburg County.
| Approximately 2,340 feet upstream of the confluence with the South Tyger River | +612
Spivey Creek | At the confluence with the South Pacolet River | +857 | Unincorporated Areas of Spartanburg County.
| Approximately 140 feet upstream of Spivey Creek Road | +876
Thompson Creek (North) | At the confluence with the Pacolet River | +714 | Unincorporated Areas of Spartanburg County.
| Approximately 1.1 miles upstream of Peachtree Road | +796
Thompson Creek (South) | At the confluence with Kelsey Creek | +554 | Unincorporated Areas of Spartanburg County.
| Approximately 1.1 miles upstream of Johnson Lake Road | +648
Turkey Hen Branch | At the confluence with the Pacolet River | +565 | Unincorporated Areas of Spartanburg County.
| Approximately 630 feet upstream of Harper Fish Camp Road | +646
Twomile Creek | At the confluence with the Enoree River | +485 | Unincorporated Areas of Spartanburg County.
| Approximately 3,990 feet upstream of Parker Road | +513
Vines Creek | At the confluence with Abners Creek | +717 | Unincorporated Areas of Spartanburg County.
| Approximately 1.2 miles upstream of Babe Wood Road | +776
Wards Creek | At the confluence with the North Tyger River | +554 | Unincorporated Areas of Spartanburg County.
| Approximately 3,450 feet upstream of Harrison Grove Road | +616
Wiley Fork Creek | At the confluence with Dutchman Creek | +532 | Unincorporated Areas of Spartanburg County.
| Approximately 2,390 feet upstream of the confluence with Dutchman Creek | +537
Zekial Creek | At the confluence with Island Creek | +804 | Unincorporated Areas of Spartanburg County.
| Approximately 4,530 feet upstream of the confluence with Island Creek | +815
* National Geodetic Vertical Datum.
+ North American Vertical Datum.
# Depth in feet above ground.
‸ Mean Sea Level, rounded to the nearest 0.1 meter.
ADDRESSES
City of Chesnee
Maps are available for inspection at 201 West Cherokee Street, Chesnee, SC 29323.
City of Greer
Maps are available for inspection at 106 South Main Street, Greer, SC 29650.
City of Spartanburg
Maps are available for inspection at 145 West Broad Street, Spartanburg, SC 29304.
City of Wellford
Maps are available for inspection at 127 Syphrit Road, Wellford, SC 29385.
Town of Campobello
Maps are available for inspection at 208 North Main Street, Campobello, SC 29322.
Town of Cowpens
Maps are available for inspection at 530 North Main Street, Cowpens, SC 29330.
Town of Duncan
Maps are available for inspection at 153 West Main Street, Duncan, SC 29334.
Town of Lyman
Maps are available for inspection at 81 Groce Road, Lyman, SC 29365.
Town of Pacolet
Maps are available for inspection at 180 Montgomery Avenue, Pacolet, SC 29372.
Town of Woodruff
Maps are available for inspection at 231 East Hayne Street, Woodruff, SC 29388.
Unincorporated Areas of Spartanburg County
Maps are available for inspection at 9039 Fairforest Road, Spartanburg, SC 29301.
Bosque County, Texas, and Incorporated Areas
Docket No.: FEMA-B-1066
Tributary 1 to North Bosque River | Approximately 1,000 feet downstream of the confluence with Tributary to North Bosque River | +560 | Unincorporated Areas of Bosque County.
| Approximately 400 feet upstream of State Highway 6 | +590
Tributary to North Bosque River | Approximately 1,000 feet downstream of the confluence with Tributary 1 to North Bosque River | +560 | Unincorporated Areas of Bosque County.
| Approximately 900 feet upstream of State Highway 6 | +572
* National Geodetic Vertical Datum.
+ North American Vertical Datum.
# Depth in feet above ground.
‸ Mean Sea Level, rounded to the nearest 0.1 meter.
ADDRESSES
Unincorporated Areas of Bosque County
Maps are available for inspection at the Bosque County Courthouse, 201 South Main Street, Meridian, TX 76665.
Burleson County, Texas, and Incorporated Areas
Docket No.: FEMA-B-1064
Copperas Hollow Creek | Approximately 0.3 mile upstream of Country Club Drive | +367 | Unincorporated Areas of Burleson County.
| Approximately 630 feet downstream of Burlington Northern Santa Fe Railroad | +378
Elm Branch Tributary 1 | At the confluence with Elm Branch | +341 | Unincorporated Areas of Burleson County.
| Just downstream of 10th Street | +372
Stream TCA | Just downstream of Burlington Northern Santa Fe Railroad | +246 | City of Somerville, Unincorporated Areas of Burleson County.
| Approximately 650 feet upstream of County Road 422 | +254
Stream TCB | At the confluence with Stream TCA | +247 | City of Somerville.
| Approximately 1,000 feet upstream of Avenue E | +251
* National Geodetic Vertical Datum.
+ North American Vertical Datum.
# Depth in feet above ground.
‸ Mean Sea Level, rounded to the nearest 0.1 meter.
ADDRESSES
City of Somerville
Maps are available for inspection at P.O. Box 159, Somerville, TX 77879.
Unincorporated Areas of Burleson County
Maps are available for inspection at 100 West Buck Street, Suite 306, Caldwell, TX 77836.
Cherokee County, Texas, and Incorporated Areas
Docket No.: FEMA-B-1080
Gum Creek | Just upstream of Lakeshore Drive | +429 | City of Jacksonville.
| Approximately 1,700 feet upstream of Lakeshore Drive | +439
* National Geodetic Vertical Datum.
+ North American Vertical Datum.
# Depth in feet above ground.
‸ Mean Sea Level, rounded to the nearest 0.1 meter.
ADDRESSES
City of Jacksonville
Maps are available for inspection at 301 East Commerce Street, Jacksonville, TX 75766.
DeWitt County, Texas, and Incorporated Areas
Docket No.: FEMA-B-1065
Gohlke Creek | Just upstream of Old Clinton Road | +166 | Unincorporated Areas of DeWitt County.
| Approximately 800 feet downstream of West Heaton Street | +167
SCS Channel | Approximately 1.1 miles downstream of Old Cheapside Road | +178 | Unincorporated Areas of DeWitt County.
| Approximately 650 feet downstream of Terrell Street | +184
* National Geodetic Vertical Datum.
+ North American Vertical Datum.
# Depth in feet above ground.
‸ Mean Sea Level, rounded to the nearest 0.1 meter.
ADDRESSES
Unincorporated Areas of DeWitt County
Maps are available for inspection at 307 North Gonzalez Street, Cuero, TX 77954.

(Catalog of Federal Domestic Assistance No. 97.022, “Flood Insurance.”)

Dated: December 29, 2010.
Sandra K. Knight,
Deputy Federal Insurance and Mitigation Administrator, Mitigation, Department of Homeland Security, Federal Emergency Management Agency.

[FR Doc. 2010-33190 Filed 1-3-11; 8:45 am]

BILLING CODE 9110-12-P